DEPARTMENT OF THE INTERIOR

Fish and Wildlife Service

Draft Environmental Assessment/Habitat Conservation Plan and Receipt of Applications for Incidental Take Permits for the Douglas County Board of Commissioners, the Town of Castle Rock and the Town of Parker for the Douglas County Habitat Conservation Plan, in Douglas County, CO

AGENCY: Fish and Wildlife Service, Interior.

ACTION: Notice of availability and receipt of applications.

SUMMARY: The Board of Commissioners of the County of Douglas, the Town of Castle Rock and the Town of Parker (Applicants) have each separately applied for an incidental take permit pursuant to section 10(a)(1)(B) of the Endangered Species Act (ESA) of 1973, as amended. The requested permits would authorize the incidental take of the federally threatened Preble's meadow jumping mouse, (Zapus hudsonius preblei) (Prebles), through the potential loss and modification of its habitat associated with the otherwise legal construction, use, maintenance, and repair of new and existing public facilities and with habitat improvements, along the mainstem and tributaries to the South Platte River, Plum Creek, and Cherry Creek, in Douglas County, Colorado. The duration of the permit would be 10 years from the date of issuance.

We also announce the availability of a document combining the Service's Environmental Assessment (EA) and the Douglas County Habitat Conservation Plan (DCHCP) for public review and comment. The Service requests comments from the public on the permit applications and the EA. The permit applications include the proposed DCHCP and associated draft Implementing Agreement. The DCHCP describes the proposed action and the measures that the Applicants will undertake to minimize and mitigate to the maximum extent practicable the take of Prebles. All comments on the EA and permit applications will become part of the administrative record and will be available to the public. We provide this notice pursuant to section 10(a) of the ESA and National Environmental Policy Act regulations (40 CFR 1506.6).

DATES: Written comments on the permit application and EA/DCHCP should be received on or before February 17, 2006.

ADDRESSES: Comments regarding the permit applications and EA/DCHCP should be addressed to Susan Linner, Field Supervisor, U.S. Fish and Wildlife Service, Colorado Field Office, 755 Parfet Street, Suite 361, Lakewood, Colorado 80215. Comments also may be submitted by facsimile to (303) 275-2371. Individuals wishing copies of the EA/DCHCP and associated documents for review or public inspection should immediately contact the above office during normal business hours. Documents also may be accessed through the following Web site http://www.douglas.co.us.

FOR FURTHER INFORMATION CONTACT: Adam Misztal, Fish and Wildlife Biologist, Colorado Field Office (see ADDRESSES), telephone (303) 275-2370.

SUPPLEMENTARY INFORMATION:

Background

Section 9 of the ESA and Federal regulations prohibit the “take” of a species listed as endangered or threatened. Take is defined under the ESA, in part, as to kill, harm, or harass a federally listed species. However, the Service may issue permits to authorize “incidental take” of listed species under limited circumstances. Incidental take is defined under the ESA as take of a listed species that is incidental to, and not the purpose of, the carrying out of an otherwise lawful activity under limited circumstances. Regulations governing permits for threatened species are promulgated in 50 CFR 17.32.

The Applicants' original draft regional county-wide HCP, initiated at the time of listing in May 1998, focused on providing coverage for activities conducted by the Applicants as well as private landowners and other entities, addressed multiple plant, wildlife and fish species, and proposed a permit duration of 50 years. The Applicants continued to pursue the regional HCP approach until February 2005 when the Service announced its 12-month finding on the two delisting petitions and its proposal to remove Prebles from the List of Endangered and Threatened Wildlife (70 FR 5404 [February 2, 2005]). In light of the proposed delisting of Prebles, the Applicants considered the following alternatives—(1) the no action alternative, resulting in the status quo requiring compliance with the ESA on a project by project basis; (2) the regional HCP alternative, affording broad incidental take permit coverage; or (3) the proposed action (DCHCP), entailing scaling back the regional HCP to address only Prebles, and covering only activities conducted by the Applicants for a reduced permit duration.

The Service's EA evaluates the environmental consequences of the three alternatives discussed above—the Proposed Action (the DCHCP); a Regional HCP; and No Action. The No Action alternative was rejected because it would likely have greater environmental impacts, would not provide as great a conservation benefit as the proposed action, and is more expensive and time consuming than the proposed action. While the Regional HCP alternative may provide greater conservation benefit to Prebles, it is not economically viable and no longer meets the Applicants' purpose and need, and thus was rejected. The draft EA analyzes the onsite, offsite, and cumulative impacts of the proposed action and associated development and construction activities and mitigation activities on the Prebles, and also on other threatened or endangered species, vegetation, wildlife, wetlands, geology/soils, land use, water resources, air and water quality, and cultural resources.

The DCHCP delineates riparian areas and adjacent upland habitat on non-Federal lands with a high likelihood of supporting Prebles within the three major watersheds in the County (Plum Creek, Cherry Creek, and South Platte River upstream of Chatfield Reservoir), referred to as the Riparian Conservation Zone (RCZ). The DCHCP seeks to provide incidental take coverage for construction, maintenance, use, and closure of roads, bridges, trails, and recreational facilities, maintenance and repair of existing structures and facilities, emergency activities, habitat improvements that benefit the RCZ, and other necessary public improvement projects (covered activities) identified by the Applicants that need to be completed during the next 10 years. The permanent impacts to the RCZ associated with the covered activities are distributed throughout the County and the RCZ and will permanently affect a maximum of approximately 308 acres (125 hectares) (about 1.6 percent of the RCZ) and temporarily disturb approximately 122 acres (49 hectares) over the life of the permit. The DCHCP establishes an impact cap (including permanent and temporary impacts) of approximately 30 acres (12 hectares) of the RCZ that will not be exceeded during the permit term absent amendment of the DCHCP and incidental take permits.

The DCHCP sets forth measures to minimize and mitigate impacts to Prebles and its potential habitat through impact avoidance, restoration of temporary impacts, implementation of activity conditions and best management practices, and habitat preservation. The minimization and mitigation efforts identified in the DCHCP will likely provide a benefit to Prebles and other wildlife by protecting approximately 1,133 acres (459 hectares), restoring portions of RCZ, and by providing a consistent riparian conservation strategy among the Applicants. The HCP addresses the proposed delisting of Prebles.

We will evaluate the application, associated documents, and comments submitted thereon to determine whether the application meets the requirement of National Environmental Policy Act regulations and section 10(a) of the ESA. If we determine that those requirements are met, we will issue a permit to the Applicants for the incidental take of Prebles. We will make our final permit decision no sooner than 60 days from the date of this notice.

Dated: December 2, 2005.
Elliott Sutta,
Acting Deputy Regional Director, Region 6.

[FR Doc. E5-7491 Filed 12-16-05; 8:45 am]

BILLING CODE 4310-55-P